DEPARTMENT OF TRANSPORTATION

National Highway Traffic Safety Administration

49 CFR Part 541

[Docket No. NHTSA-2007-28874]

Final Theft Data; Motor Vehicle Theft Prevention Standard

AGENCY: National Highway Traffic Safety Administration (NHTSA), Department of Transportation.

ACTION: Publication of final theft data.

SUMMARY: This document publishes the final data on thefts of model year (MY) 2005 passenger motor vehicles that occurred in calendar year (CY) 2005. The final 2005 theft data indicate an increase in the vehicle theft rate experienced in CY/MY 2005. The final theft rate for MY 2005 passenger vehicles stolen in calendar year 2005 (1.85 thefts per thousand vehicles) increased by 1.1 percent from the theft rate for CY/MY 2004 (1.83 thefts per thousand vehicles) when compared to the theft rate experienced in CY/MY 2004. As explained in this notice, NHTSA is not concerned at this time about this minor increase. Publication of these data fulfills NHTSA's statutory obligation to periodically obtain accurate and timely theft data and publish the information for review and comment.

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2005, the most recent calendar year for which data are available.

In calculating the 2005 theft rates, NHTSA followed the same procedures it used in calculating the MY 2004 theft rates. (For 2004 theft data calculations, see 71 FR 59400, October 10, 2006). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2005 theft rate for each vehicle line was calculated by dividing the number of reported thefts of MY 2005 vehicles of that line stolen during calendar year 2005 by the total number of vehicles in that line manufactured for MY 2005, as reported to the Environmental Protection Agency (EPA).

The final 2005 theft data show a slight increase in the vehicle theft rate when compared to the theft rate experienced in CY/MY 2004. The final theft rate for MY 2005 passenger vehicles stolen in calendar year 2005 increased to 1.85 thefts per thousand vehicles produced, an increase of 1.1 percent from the rate of 1.83 thefts per thousand vehicles experienced by MY 2004 vehicles in CY 2004. NHTSA is not currently concerned with this minor increase in the theft rate. While NHTSA has seen an overall downward trend in theft rates since CY 1993, there have been periods of increase from one year to the next. This increase is lower than any seen in this period. Therefore, NHTSA does not expect that it indicates the beginning of an upward trend for theft rates.

For MY 2005 vehicles, out of a total of 233 vehicle lines, 24 lines had a theft rate higher than 3.5826 per thousand vehicles, the established median theft rate for MYs 1990/1991. (See 59 FR 12400, March 16, 1994). Of the 24 vehicle lines with a theft rate higher than 3.5826, 21 are passenger car lines, two are multipurpose passenger vehicle lines, and one is a light-duty truck line.

On Monday, October 15, 2007, NHTSA published the preliminary theft rates for CY 2005 passenger motor vehicles in the Federal Register (72 FR 58268). The agency tentatively ranked each of the MY 2005 vehicle lines in descending order of theft rate. The public was requested to comment on the accuracy of the data and to provide final production figures for individual vehicle lines. The agency received no comments in the public docket.

However, subsequent to publishing the MY 2005 preliminary theft rate notice (72 FR 58268), the agency was informed that corrections to the original production figures for some Suzuki vehicle lines had been reported to EPA. The agency has revised the MY 2005 final theft data to reflect those corrections. Specifically, as a result of the new production figures provided the Suzuki Aerio which ranked No. 2 with a theft rate of 6.5232, is still ranked No. 2 with a new theft rate of 5.9386; the Suzuki Forenza which ranked No. 19 with a theft rate of 3.8638, is now ranked No. 20 with a new theft rate of 3.7157; the Suzuki Vitara/Grand Vitara which ranked No. 28 with a theft rate of 3.3005, is now ranked No. 29 with a new theft rate of 3.2630; and the Suzuki Verona which ranked No. 32 with a theft rate of 3.1043, is still ranked No. 32 with a new theft rate of 3.1039.

The following list represents NHTSA's final calculation of theft rates for all 2005 passenger motor vehicle lines. This list is intended to inform the public of calendar year 2005 motor vehicle thefts of model year 2005 vehicles and does not have any effect on the obligations of regulated parties under 49 U.S.C. Chapter 331, Theft Prevention.

Final Report of Theft Rates for Model Year 2005 Passenger Motor Vehicles Stolen in Calendar Year 2005
Manufacturer | Make/model (line) | Thefts 2005 | Production (Mfr's) 2005 | 2005 Theft rate (per 1,000 vehicles produced)
1 TOYOTA | TOYOTA TUNDRA PICKUP | 265 | 14,194 | 18.6699
2 SUZUKI | AERIO | 77 | 12,966 | 5.9386
3 KIA | RIO | 156 | 26,328 | 5.9253
4 MERCEDES BENZ | 215 (CL-CLASS) | 9 | 1,601 | 5.6215
5 JAGUAR | XKR | 4 | 748 | 5.3476
6 GENERAL MOTORS | CHEVROLET MONTE CARLO | 188 | 35,876 | 5.2403
7 MITSUBISHI | GALANT | 150 | 28,808 | 5.2069
8 DAIMLERCHRYSLER | DODGE NEON | 783 | 154,231 | 5.0768
9 DAIMLERCHRYSLER | DODGE MAGNUM | 387 | 79,254 | 4.8830
10 DAIMLERCHRYSLER | CHRYSLER SEBRING | 242 | 49,892 | 4.8505
11 DAIMLERCHRYSLER | DODGE STRATUS | 452 | 94,735 | 4.7712
12 KIA | OPTIMA | 145 | 31,362 | 4.6234
13 MITSUBISHI | LANCER | 141 | 31,226 | 4.5155
14 NISSAN | SENTRA | 519 | 116,354 | 4.4605
15 GENERAL MOTORS | CHEVROLET MALIBU | 908 | 212,400 | 4.2750
16 TOYOTA | TOYOTA ECHO | 43 | 10,540 | 4.0797
17 GENERAL MOTORS | PONTIAC GRAND AM | 248 | 61,502 | 4.0324
18 TOYOTA | LEXUS GS | 12 | 3,004 | 3.9947
19 NISSAN | INFINITI FX45 | 7 | 1,850 | 3.7838
20 SUZUKI | FORENZA | 129 | 34,718 | 3.7157
21 GENERAL MOTORS | CHEVROLET CAVALIER | 351 | 95,838 | 3.6624
22 HONDA | ACURA RSX | 69 | 19,135 | 3.6060
23 KIA | SPECTRA | 191 | 53,027 | 3.6019
24 HONDA | S2000 | 32 | 8,921 | 3.5870
25 MASERATI | SPYDER/F1 | 1 | 289 | 3.4602
26 GENERAL MOTORS | PONTIAC SUNFIRE | 132 | 38,239 | 3.4520
27 DAIMLERCHRYSLER | CHRYSLER SEBRING CONVERTIBLE | 114 | 33,498 | 3.4032
28 TOYOTA | TOYOTA MR2 SPYDER | 3 | 912 | 3.2895
29 SUZUKI | VITARA/GRAND VITARA | 81 | 24,824 | 3.2630
30 TOYOTA | LEXUS IS | 20 | 6,343 | 3.1531
31 DAIMLERCHRYSLER | CHRYSLER 300 | 499 | 158,545 | 3.1474
32 SUZUKI | VERONA | 23 | 7,410 | 3.1039
33 HYUNDAI | ACCENT | 158 | 51,121 | 3.0907
34 GENERAL MOTORS | CHEVROLET AVEO | 196 | 64,250 | 3.0506
35 HYUNDAI | TIBURON | 46 | 15,100 | 3.0464
36 GENERAL MOTORS | CHEVROLET IMPALA | 701 | 230,633 | 3.0395
37 NISSAN | 350Z | 82 | 27,146 | 3.0207
38 MITSUBISHI | ECLIPSE | 25 | 8,471 | 2.9512
39 FORD MOTOR CO. | LINCOLN LS | 64 | 21,743 | 2.9435
40 GENERAL MOTORS | CHEVROLET COBALT | 410 | 140,975 | 2.9083
41 NISSAN | INFINITI QX56 | 36 | 12,666 | 2.8423
42 NISSAN | MAXIMA | 209 | 73,931 | 2.8270
43 NISSAN | ALTIMA | 1,035 | 368,779 | 2.8066
44 MAZDA | 6 | 191 | 68,252 | 2.7985
45 SUZUKI | RENO | 16 | 5,736 | 2.7894
46 TOYOTA | SCION XB | 187 | 67,396 | 2.7746
47 SUBARU | IMPREZA | 103 | 38,390 | 2.6830
48 GENERAL MOTORS | PONTIAC GRAND PRIX | 284 | 107,972 | 2.6303
49 FORD MOTOR CO. | FORD TAURUS | 527 | 201,826 | 2.6112
50 FORD MOTOR CO. | FORD FOCUS | 637 | 245,780 | 2.5917
51 TOYOTA | TOYOTA CELICA | 11 | 4,258 | 2.5834
52 BMW | M3 | 14 | 5,471 | 2.5589
53 GENERAL MOTORS | PONTIAC GTO | 28 | 11,065 | 2.5305
54 ROLLS ROYCE | PHANTOM | 1 | 399 | 2.5063
55 FORD MOTOR CO. | FORD MUSTANG | 362 | 145,599 | 2.4863
56 MITSUBISHI | OUTLANDER | 36 | 14,983 | 2.4027
57 GENERAL MOTORS | CHEVROLET BLAZER S10/T10 | 12 | 5,018 | 2.3914
58 NISSAN | INFINITI FX35 | 72 | 30,172 | 2.3863
59 DAIMLERCHRYSLER | JEEP WRANGLER | 178 | 74,706 | 2.3827
60 GENERAL MOTORS | CADILLAC XLR | 9 | 3,828 | 2.3511
61 BMW | 6 | 25 | 10,636 | 2.3505
62 TOYOTA | TOYOTA COROLLA | 864 | 368,744 | 2.3431
63 TOYOTA | SCION TC | 146 | 62,321 | 2.3427
64 NISSAN | FRONTIER PICKUP | 146 | 62,799 | 2.3249
65 MITSUBISHI | ENDEAVOR | 46 | 20,871 | 2.2040
66 HYUNDAI | SONATA | 175 | 79,781 | 2.1935
67 MAZDA | B SERIES PICKUP | 12 | 5,686 | 2.1104
68 HYUNDAI | ELANTRA | 277 | 132,495 | 2.0906
69 MITSUBISHI | MONTERO | 8 | 3,829 | 2.0893
70 GENERAL MOTORS | PONTIAC G6 | 128 | 62,481 | 2.0486
71 NISSAN | XTERRA | 113 | 55,179 | 2.0479
72 KIA | SEDONA VAN | 156 | 76,527 | 2.0385
73 FORD MOTOR CO. | FORD RANGER PICKUP | 209 | 103,723 | 2.0150
74 VOLKSWAGEN | GOLF/GTI | 29 | 14,447 | 2.0073
75 HONDA | CIVIC | 577 | 288,917 | 1.9971
76 KIA | SORENTO | 114 | 57,272 | 1.9905
77 MERCEDES BENZ | 203 (C-CLASS) | 139 | 70,818 | 1.9628
78 HONDA | ACURA TSX | 70 | 35,836 | 1.9533
79 ISUZU | ASCENDER | 14 | 7,219 | 1.9393
80 MAZDA | RX-8 | 34 | 17,608 | 1.9309
81 KIA | AMANTI | 43 | 22,858 | 1.8812
82 TOYOTA | SCION XA | 60 | 32,132 | 1.8673
83 TOYOTA | TOYOTA TACOMA PICKUP | 283 | 151,776 | 1.8646
84 JAGUAR | XJ8/XJ8L | 8 | 4,330 | 1.8476
85 NISSAN | INFINITI G35 | 120 | 65,227 | 1.8397
86 JAGUAR | S-TYPE | 25 | 13,629 | 1.8343
87 MAZDA | 3 | 158 | 86,184 | 1.8333
88 DAIMLERCHRYSLER | CHRYSLER PT CRUISER | 240 | 133,335 | 1.8000
89 TOYOTA | LEXUS SC | 16 | 9,019 | 1.7740
90 NISSAN | INFINITI Q45 | 3 | 1,712 | 1.7523
91 NISSAN | PATHFINDER | 143 | 82,667 | 1.7298
92 MERCEDES BENZ | 208 (CLK-CLASS) | 37 | 21,724 | 1.7032
93 SUBARU | BAJA | 14 | 8,244 | 1.6982
94 AUDI | A4/A4 QUATTRO/S4/S4 AVANT | 80 | 47,470 | 1.6853
95 GENERAL MOTORS | CHEVROLET TRAILBLAZER | 311 | 184,671 | 1.6841
96 TOYOTA | TOYOTA CAMRY/SOLARA | 732 | 437,173 | 1.6744
97 NISSAN | QUEST VAN | 60 | 35,913 | 1.6707
98 GENERAL MOTORS | PONTIAC AZTEK | 17 | 10,197 | 1.6672
99 DAIMLERCHRYSLER | JEEP GRAND CHEROKEE | 356 | 214,714 | 1.6580
100 MERCEDES BENZ | 170 (SLK-CLASS) | 17 | 10,310 | 1.6489
101 GENERAL MOTORS | BUICK CENTURY | 65 | 40,051 | 1.6229
102 FORD MOTOR CO. | FORD EXPLORER | 317 | 196,740 | 1.6113
103 FORD MOTOR CO. | MERCURY SABLE | 58 | 36,134 | 1.6051
104 SAAB | 9-2X | 9 | 5,713 | 1.5754
105 HONDA | ACCORD | 576 | 371,940 | 1.5486
106 FORD MOTOR CO. | FORD EXPLORER SPORT TRAC | 83 | 53,640 | 1.5474
107 HONDA | ACURA 3.2 TL | 125 | 82,497 | 1.5152
108 GENERAL MOTORS | CHEVROLET COLORADO | 206 | 136,994 | 1.5037
109 BMW | 3 | 88 | 58,554 | 1.5029
110 BMW | 5 | 42 | 28,346 | 1.4817
111 FORD MOTOR CO. | MERCURY MOUNTAINEER | 48 | 32,416 | 1.4808
112 GENERAL MOTORS | SATURN ION | 104 | 71,021 | 1.4644
113 DAIMLERCHRYSLER | CHRYSLER CROSSFIRE | 36 | 24,679 | 1.4587
114 GENERAL MOTORS | GMC ENVOY | 102 | 70,105 | 1.4550
115 KIA | SPORTAGE | 35 | 24,351 | 1.4373
116 GENERAL MOTORS | GMC CANYON PICKUP | 56 | 39,149 | 1.4304
117 FORD MOTOR CO. | LINCOLN TOWN CAR | 67 | 46,853 | 1.4300
118 MERCEDES BENZ | 129 (SL-CLASS) | 15 | 10,586 | 1.4170
119 NISSAN | MURANO | 102 | 72,482 | 1.4072
120 TOYOTA | TOYOTA MATRIX | 99 | 72,719 | 1.3614
121 HYUNDAI | SANTA FE | 100 | 73,979 | 1.3517
122 HYUNDAI | XG300 | 27 | 20,099 | 1.3434
123 GENERAL MOTORS | PONTIAC VIBE | 95 | 71,357 | 1.3313
124 GENERAL MOTORS | CADILLAC DEVILLE | 76 | 57,246 | 1.3276
125 VOLKSWAGEN | JETTA | 116 | 87,710 | 1.3225
126 AUDI | A8 | 7 | 5,336 | 1.3118
127 VOLKSWAGEN | PHAETON | 1 | 768 | 1.3021
128 MAZDA | TRIBUTE | 68 | 52,267 | 1.3010
129 JAGUAR | VANDEN PLAS/SUPER V8 | 4 | 3,075 | 1.3008
130 FORD MOTOR CO. | FORD CROWN VICTORIA | 24 | 18,754 | 1.2797
131 FORD MOTOR CO. | FORD FREESTAR VAN | 92 | 72,690 | 1.2656
132 GENERAL MOTORS | CHEVROLET ASTRO VAN | 29 | 23,439 | 1.2373
133 DAIMLERCHRYSLER | CHRYSLER PACIFICA | 146 | 118,329 | 1.2338
134 GENERAL MOTORS | PONTIAC BONNEVILLE | 26 | 21,519 | 1.2082
135 GENERAL MOTORS | CADILLAC CTS | 74 | 61,323 | 1.2067
136 BMW | 7 | 9 | 7,495 | 1.2008
137 DAIMLERCHRYSLER | DODGE CARAVAN/GRAND CARAVAN | 440 | 367,439 | 1.1975
138 TOYOTA | TOYOTA 4RUNNER | 127 | 106,810 | 1.1890
139 DAIMLERCHRYSLER | DODGE VIPER | 2 | 1,692 | 1.1820
140 HYUNDAI | TUCSON | 71 | 61,346 | 1.1574
141 ASTON MARTIN | DB9 | 1 | 874 | 1.1442
142 GENERAL MOTORS | GMC SAFARI VAN | 5 | 4,441 | 1.1259
143 FORD MOTOR CO. | FORD FIVE HUNDRED | 109 | 97,689 | 1.1158
144 VOLVO | V70 | 9 | 8,070 | 1.1152
145 MERCEDES BENZ | 220 (S-CLASS) | 13 | 11,831 | 1.0988
146 FORD MOTOR CO. | FORD THUNDERBIRD | 10 | 9,189 | 1.0883
147 BMW | X3 | 31 | 28,657 | 1.0818
148 TOYOTA | LEXUS LS | 31 | 29,049 | 1.0672
149 GENERAL MOTORS | CHEVROLET EQUINOX | 192 | 183,758 | 1.0449
150 FORD MOTOR CO. | FORD ESCAPE | 252 | 243,658 | 1.0342
151 DAIMLERCHRYSLER | JEEP LIBERTY | 178 | 173,110 | 1.0282
152 TOYOTA | LEXUS ES | 83 | 80,735 | 1.0281
153 TOYOTA | LEXUS GX | 28 | 27,260 | 1.0271
154 TOYOTA | TOYOTA AVALON | 59 | 57,577 | 1.0247
155 GENERAL MOTORS | CHEVROLET CORVETTE | 34 | 33,810 | 1.0056
156 GENERAL MOTORS | BUICK LESABRE | 105 | 105,985 | 0.9907
157 TOYOTA | LEXUS RX | 94 | 96,140 | 0.9777
158 PORSCHE | BOXSTER | 6 | 6,142 | 0.9769
159 GENERAL MOTORS | CHEVROLET VENTURE VAN | 24 | 25,341 | 0.9471
160 ROLLS ROYCE | BENTLEY CONTINENTAL | 3 | 3,176 | 0.9446
161 VOLVO | S40 | 24 | 25,722 | 0.9331
162 TOYOTA | TOYOTA RAV4 | 75 | 82,037 | 0.9142
163 BMW | Z4 | 10 | 11,079 | 0.9026
164 HONDA | ELEMENT | 47 | 52,440 | 0.8963
165 FORD MOTOR CO. | MERCURY MARINER | 29 | 32,734 | 0.8859
166 GENERAL MOTORS | SATURN LS | 6 | 6,790 | 0.8837
167 FORD MOTOR CO. | MERCURY GRAND MARQUIS | 61 | 69,862 | 0.8731
168 TOYOTA | TOYOTA HIGHLANDER | 113 | 130,146 | 0.8683
169 GENERAL MOTORS | BUICK PARK AVENUE | 8 | 9,282 | 0.8619
170 GENERAL MOTORS | SATURN VUE | 56 | 65,105 | 0.8601
171 VOLKSWAGEN | PASSAT | 30 | 35,149 | 0.8535
172 PORSCHE | 911 | 7 | 8,391 | 0.8342
173 GENERAL MOTORS | CADILLAC STS | 31 | 37,226 | 0.8328
174 TOYOTA | TOYOTA SIENNA VAN | 144 | 172,999 | 0.8324
175 GENERAL MOTORS | BUICK LACROSSE/ALLURE | 68 | 81,894 | 0.8303
176 LAND ROVER | FREELANDER | 2 | 2,441 | 0.8193
177 MAZDA | MPV VAN | 15 | 18,902 | 0.7936
178 HONDA | ACURA 3.5 RL | 17 | 21,526 | 0.7897
179 VOLKSWAGEN | NEW BEETLE | 27 | 34,410 | 0.7847
180 AUDI | A6/A6 QUATTRO/S6/S6 AVANT | 12 | 15,432 | 0.7776
181 DAIMLERCHRYSLER | CHRYSLER TOWN & COUNTRY | 195 | 253,162 | 0.7703
182 GENERAL MOTORS | BUICK RENDEZVOUS | 42 | 54,775 | 0.7668
183 VOLVO | XC90 | 33 | 43,213 | 0.7637
184 FORD MOTOR CO. | MERCURY MONTEREY VAN | 5 | 6,703 | 0.7459
185 MERCEDES BENZ | 210 (E-CLASS) | 30 | 40,445 | 0.7417
186 VOLVO | S80 | 8 | 10,918 | 0.7327
187 GENERAL MOTORS | BUICK RAINIER | 10 | 13,648 | 0.7327
188 VOLVO | S60 | 15 | 23,029 | 0.6514
189 BMW | MINI COOPER | 30 | 47,444 | 0.6323
190 HONDA | CR-V | 88 | 144,472 | 0.6091
191 SAAB | 9-3 | 13 | 21,433 | 0.6065
192 LOTUS | ELISE | 2 | 3,320 | 0.6024
193 SUBARU | LEGACY/OUTBACK | 21 | 34,944 | 0.6010
194 AUDI | ALLROAD QUATTRO | 2 | 3,420 | 0.5848
195 HONDA | ACURA MDX | 35 | 60,287 | 0.5806
196 HONDA | PILOT | 81 | 142,118 | 0.5699
197 GENERAL MOTORS | CHEVROLET UPLANDER VAN | 30 | 52,713 | 0.5691
198 GENERAL MOTORS | CADILLAC SRX | 13 | 23,498 | 0.5532
199 FORD MOTOR CO. | FORD FREESTYLE | 40 | 75,643 | 0.5288
200 HONDA | ODYSSEY VAN | 85 | 161,742 | 0.5255
201 FORD MOTOR CO. | FORD GT | 1 | 1,907 | 0.5244
202 SAAB | 9-7X | 1 | 1,999 | 0.5003
203 MAZDA | MX-5 MIATA | 2 | 4,135 | 0.4837
204 SUBARU | FORESTER | 24 | 50,942 | 0.4711
205 FORD MOTOR CO. | MERCURY MONTEGO | 13 | 28,517 | 0.4559
206 GENERAL MOTORS | PONTIAC MONTANA VAN | 14 | 31,583 | 0.4433
207 TOYOTA | TOYOTA PRIUS | 46 | 121,020 | 0.3801
208 SUBARU | OUTBACK | 29 | 79,980 | 0.3626
209 JAGUAR | X-TYPE | 4 | 11,299 | 0.3540
210 GENERAL MOTORS | SATURN RELAY | 6 | 17,794 | 0.3372
211 SAAB | 9-5 | 2 | 6,137 | 0.3259
212 VOLVO | V50 | 2 | 6,909 | 0.2895
213 GENERAL MOTORS | BUICK TERRAZA VAN | 2 | 19,848 | 0.1008
214 MASERATI | GRANSPORT | 0 | 490 | 0.0000
215 MASERATI | QUATTROPORTE | 0 | 1,311 | 0.0000
216 HONDA | ACURA NSX | 0 | 249 | 0.0000
217 ASTON MARTIN | VANQUISH | 0 | 165 | 0.0000
218 AUDI | TT | 0 | 3,375 | 0.0000
219 ROLLS ROYCE | BENTLEY ARNAGE | 0 | 361 | 0.0000
220 GENERAL MOTORS | CADILLAC FUNERAL COACH/HEARSE | 0 | 854 | 0.0000
221 GENERAL MOTORS | CADILLAC LIMOUSINE | 0 | 472 | 0.0000
222 FERRARI | MARANELLO/F1 | 0 | 235 | 0.0000
223 FERRARI | SCAGLIETTI/F1 | 0 | 228 | 0.0000
224 FERRARI | SPIDER/F1 | 0 | 1,093 | 0.0000
225 GENERAL MOTORS | CHEVROLET CLASSIC | 0 | 83,060 | 0.0000
226 GENERAL MOTORS | GMC K2500 | 0 | 51 | 0.0000
227 HONDA | INSIGHT | 0 | 591 | 0.0000
228 JAGUAR | XJR | 0 | 741 | 0.0000
229 JAGUAR | XK8 | 0 | 1,760 | 0.0000
230 NISSAN | ARMADA | 0 | 34,803 | 0.0000
231 NISSAN | TITAN | 0 | 77,628 | 0.0000
232 SPYKER | C8 | 0 | 7 | 0.0000
233 VOLVO | XC70 | 0 | 14,806 | 0.0000

Issued on: March 7, 2008.
Stephen R. Kratzke,
Associate Administrator for Rulemaking.

[FR Doc. E8-4951 Filed 3-11-08; 8:45 am]

BILLING CODE 4910-59-P